DEPARTMENT OF TRANSPORTATION

Federal Motor Carrier Safety Administration

[Docket No. FMCSA-2026-0199]

Parts and Accessories Necessary for Safe Operation; Application for Exemption From Truck-Lite Co., LLC

AGENCY: Federal Motor Carrier Safety Administration (FMCSA), Department of Transportation (DOT).

ACTION: Notice of application for exemption; request for comments.

SUMMARY: The Federal Motor Carrier Safety Administration (FMCSA) requests public comment on an application for exemption submitted by Truck-Lite Co., LLC (Truck-Lite) to allow motor carriers to install auxiliary amber brake-activated pulsating warning lamps on the rear of commercial trucks and trailers in addition to the steady-burning brake lamps required by the Federal Motor Carrier Safety Regulations (FMCSRs).

DATES: Comments must be received on or before March 20, 2026.

ADDRESSES: You may submit comments identified by Docket Number FMCSA-2026-0199 by any of the following methods:

• Federal eRulemaking Portal: www.regulations.gov. See the Public Participation and Request for Comments section below for further information.

• Mail: Dockets Operations, U.S. Department of Transportation, 1200 New Jersey Avenue SE, W58-213, Washington, DC 20590-0001.

• Hand Delivery or Courier: 1200 New Jersey Avenue SE, W58-213, Washington, DC 20590-0001, between 9 a.m. and 5 p.m., Monday through Friday, except Federal holidays.

• Fax: (202) 493-2251.

Each submission must include the Agency name and the docket number (FMCSA-2026-0199) for this notice. Note that DOT posts all comments received without change to www.regulations.gov, including any personal information included in a comment. Please see the Privacy Act heading below.

Privacy Act: In accordance with 49 U.S.C. 31315(b), DOT solicits comments from the public to better inform its exemption process. DOT posts these comments, including any personal information the commenter provides, to www.regulations.gov, as described in the system of records notice DOT/ALL 14—FDMS (Federal Docket Management System (FDMS)), which can be reviewed at https://www.transportation.gov/individuals/privacy/privacy-act-system-records-notices. The comments are posted without edit and are searchable by the name of the submitter.

FOR FURTHER INFORMATION CONTACT: Mr. David Sutula, Chief, Vehicle and Roadside Operations Division, Office of Carrier, Driver, and Vehicle Safety, FMCSA; (202) 961-1373, or MCPSV@dot.gov. If you have questions on viewing or submitting material to the docket, contact Dockets Operations at (202) 366-9826.

SUPPLEMENTARY INFORMATION:

I. Public Participation and Request for Comments

FMCSA encourages you to participate by submitting comments and related materials.

A. Submitting Comments

If you submit a comment, please include the docket number for this notice (FMCSA-2026-0199), indicate the specific section of this document to which your comment applies, and provide a reason for your suggestions or recommendations. You may submit your comments and material online or by fax, mail, or hand delivery, but please use only one of these means. FMCSA recommends that you include your name and a mailing address, an email address, or a phone number in the body of your document so the Agency can contact you if it has questions regarding your submission.

To submit your comment online, go to https://www.regulations.gov/docket/FMCSA-2026-0199/document, click on this notice, click “Comment,” and type your comment into the text box on the following screen.

If you submit your comments by mail or hand delivery, submit them in an unbound format, no larger than 8½ by 11 inches, suitable for copying and electronic filing.

FMCSA will consider all comments and material received during the comment period. Comments received after the comment closing date will be filed in the public docket and will be considered to the extent practicable.

B. Confidential Business Information (CBI)

CBI is commercial or financial information that is both customarily and actually treated as private by its owner. Under the Freedom of Information Act (5 U.S.C. 552), CBI is exempt from public disclosure. If your comments responsive to the notice contain commercial or financial information that is customarily treated as private, that you actually treat as private, and that is relevant or responsive to the notice, it is important that you clearly designate the submitted comments as CBI. Please mark each page of your submission that constitutes CBI as “PROPIN” to indicate it contains proprietary information. FMCSA will treat such marked submissions as confidential under the Freedom of Information Act, and they will not be placed in the public docket of the notice. Submissions containing CBI should be sent to Brian Dahlin Chief, Regulatory Evaluation Division, Office of Policy, FMCSA, 1200 New Jersey Avenue SE, Washington, DC 20590-0001 or via email at brian.g.dahlin@dot.gov. At this time, you need not send a duplicate hardcopy of your electronic CBI submissions to FMCSA headquarters. Any comments FMCSA receives not specifically designated as CBI will be placed in the public docket for this notice.

C. Viewing Comments and Documents

To view any documents mentioned as being available in the docket, go to https://www.regulations.gov/docket/FMCSA-2026-0199/document and choose the document to review. To view comments, click this notice, then click “Browse Comments.” If you do not have access to the internet, you may view the docket online by visiting Dockets Operations in room W58-213 of the DOT West Building, 1200 New Jersey Avenue SE, Washington, DC 20590-0001, between 9 a.m. and 5 p.m. ET, Monday through Friday, except Federal holidays. To be sure someone is there to help you, please call (202) 366-9317 or (202) 366-9826 before visiting Dockets Operations.

II. Legal Basis

FMCSA has authority under 49 U.S.C. 31136(e) and 31315(b) to grant exemptions from the FMCSRs. FMCSA must publish a notice of each exemption request in the Federal Register (49 CFR 381.315(a)). The Agency must provide the public an opportunity to inspect the information relevant to the application, including the applicant's safety analysis. The Agency must provide an opportunity for public comment on the request.

The Agency reviews safety analyses and public comments submitted and determines whether granting the exemption would likely achieve a level of safety equivalent to, or greater than, the level that would be achieved without the exemption, pursuant to the standard set forth in 49 U.S.C. 31315(b)(1). The Agency must publish its decision in the Federal Register (49 CFR 381.315(b)). If granted, the notice will identify the regulatory provision from which the applicant will be exempt, the effective period, and all terms and conditions of the exemption (49 CFR 381.315(c)(1)). If the exemption is denied, the notice will explain the reason for the denial (49 CFR 381.315(c)(2)). The exemption may be renewed (49 CFR 381.300(b)).

III. Applicant's Request

Current Regulatory Requirements

FMCSA requires in 49 CFR 393.25(e) that all exterior lamps (both required lamps and any additional lamps) shall be steady-burning with the exception of turn signal lamps; hazard warning signal lamps; school bus warning lamps; amber warning lamps or flashing warning lamps on tow trucks and commercial motor vehicles transporting oversized loads; and warning lamps on emergency and service vehicles authorized by State or local authorities.

Applicant's Request

Truck-Lite has applied for an exemption from § 393.25(e) to allow motor carriers to continue to operate ¹ CMVs equipped with Truck-Lite or ECCO branded auxiliary amber brake-activated pulsating warning lamps on the rear of commercial trucks and trailers. The subject auxiliary lamp operates as a Class II amber strobe that pulsates (up to four seconds) with each application of the service brake and then transitions to a steady burning red signal; the auxiliary lamps remain off when the brake circuit is inactive. These auxiliary lamps would be used in addition to the steady-burning brake lamps required by the FMCSRs.

¹ Motor carriers were previously able to equip and operate CMVs with Truck-Lite's brake-activated, pulsating auxiliary lamps under an exemption that expired on December 2, 2025. See Docket No. FMCSA-2020-0122.

Truck Lite cites FMCSA research, FMCSA Report No. FMCSA-RRT-13-009 (Apr. 2014) to support the potential safety benefits of using the Truck-Lite brake-activated, pulsating auxiliary lamps.

Truck-Lite notes that FMCSA has previously granted temporary exemptions for similar brake-activated, pulsating auxiliary lamps (e.g., Docket Nos. FMCSA-2020-0122; FMCSA-2019-0260; FMCSA-2018-0223), and that field experience and docketed operator reports for lamps operating under those exemptions show decreases in rear-end events and otherwise support a finding that such lamps provide an equivalent or greater level of safety compared to vehicles without the lamps.

Truck-Lite states the subject lamps meet the lamp specifications, performance characteristics, and mounting location requirements described in the prior exemption in Docket No. FMCSA-2020-0122 (which expired in December 2025), and are designed to pulsate in amber for up to four seconds before transitioning to steady red. ECCO (a sister company of Truck-Lite) intends to develop a similar lamp that will meet the same specifications. Accordingly, Truck-Lite requests that the exemption apply to both Truck-Lite and ECCO lamps as manufactured to the specifications stated in the prior exemption.

Truck-Lite proposes the exemption be conditioned as appropriate to preserve safety and monitoring, including but not limited to measures similar to prior exemptions. Examples include requiring that the subject auxiliary lamps be installed in addition to, and not as a replacement for, the required steady-burning brake lamps; requiring manufacturers or motor carriers deploying exempted lamps to maintain records of vehicles equipped with the subject lamps and to provide periodic reports to FMCSA on field incidents, warranty claims, and any safety-related complaints or recalls; and requiring conspicuous owner or operator information indicating the presence and operating characteristics of the auxiliary pulsating lamps.

A copy of Truck-Lite's application for exemption, and all supporting materials, are available for review in the docket for this notice.

IV. Request for Comments

In accordance with 49 U.S.C. 31315(b), FMCSA requests public comment from all interested persons on Truck-Lite's application for a 5-year exemption from 49 CFR 393.25(e). All comments received before the close of business on the comment closing date will be considered and will be available for examination in the docket at the location listed under the Viewing Comments and Documents section of this notice. Comments received after the comment closing date will be filed in the public docket and may be considered to the extent practicable. In addition to late comments, FMCSA will also continue to file, in the public docket, relevant information that becomes available after the comment closing date. Interested persons should continue to examine the public docket for new material.

Larry W. Minor,
Associate Administrator for Policy.

[FR Doc. 2026-03168 Filed 2-17-26; 8:45 am]

BILLING CODE 4910-EX-P